FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
ILLINOIS
LaSalle (City), LaSalle County (FEMA Docket No. 7307)
Illinois River:
Approximately 0.82 mile downstream of State Route 351 | *463
Approximately 0.95 mile upstream of Illinois Central Railroad | *465
Maps available for inspection at the LaSalle City Hall, 745 Second Street, LaSalle, Illinois.
———
LaSalle County (Unincorporated Areas) (FEMA Docket No. 7307)
Goose Creek:
At downstream corporate limits | *509
At upstream corporate limits | *516
Illinois River:
Approximately 2.5 miles downstream of State Route 251 | *462
Approximately 1.1 miles upstream of South Main Street (State Route 170) | *497
Fox River:
At the confluence with the Illinois River | *472
Approximately 850 feet downstream of confluence of Clear Creek | *554
Prairie Creek:
At the confluence with the Vermilion River | *573
A point approximately 2,850 feet upstream of Otter Creek Road | *628
Vermilion River:
Upstream of Oakley Road | *567
Approximately 0.77 mile upstream of Bridge Street | *580
Clark Run Creek:
At confluence with Illinois River | *466
Approximately 625 feet upstream of abandoned Illinois and Michigan Canal | *473
Coal Run Creek:
Approximately 50 feet upstream of South Otter Creek Road | *614
Approximately 585 feet upstream of South Otter Creek Road | *615
Rat Run:
At the confluence with the Illinois River | *494
At the Missouri, Kansas, Texas Railroad | *501
Lake Holiday:
Entire shoreline within community | *644
First Creek:
Approximately 970 feet upstream of confluence with Little Vermilion River | *715
Approximately 250 feet upstream of 6th Street | *719
First Creek Tributary:
Approximately 350 feet upstream of 17th Street | *740
At 17th Street | *740
South Branch Coal Run Creek:
Downstream side of South Otter Creek Street | *614
Approximately 425 feet upstream of South Otter Creek Street | *615
Ponding Area:
Approximately 1,800 feet northwest of intersection of West Church Street and Johnson Street | #1
Maps available for inspection at the LaSalle County Courthouse, County Clerk's Office, 707 Etna Road, Ottawa, Illinois.
———
Marseilles (City), LaSalle County (FEMA Docket No. 7307)
Illinois River:
Approximately 4,200 feet downstream of Main Street | *479
Approximately 15,500 feet upstream of Main Street | *492
Maps available for inspection at the Marseilles City Hall, 209 Lincoln Street, Marseilles, Illinois.
———
Millington (Village), LaSalle County (FEMA Docket No. 7307)
Fox River:
Approximately 1.6 miles upstream of Interstate 80 | *553
Approximately 400 feet upstream of confluence of Clear Creek | *555
Clear Creek:
At confluence with the Fox River | *555
At the Burlington Northern Railroad | *556
Maps available for inspection at the Millington Village Hall, Walnut Street, Millington, Illinois.
———
North Utica (Village), LaSalle County (FEMA Docket No. 7307)
Clark Run Creek:
Approximately 0.46 mile downstream of crossing of the abandoned Illinois and Michigan Canal | *466
Approximately 700 feet downstream of confluence of the abandoned Illinois and Michigan Canal | *466
Illinois River:
Approximately 0.38 mile downstream of State Route 178 | *466
Approximately 0.55 mile upstream of State Route 178 | *466
Maps available for inspection at the North Utica Village Hall, 245 Mill Street, Utica, Illinois.
———
Ottawa (City), LaSalle County (FEMA Docket No. 7307)
Goose Creek:
Approximately 400 feet downstream of Champlain Street | *472
Approximately 150 feet upstream of Champlain Street | *475
Illinois River:
Approximately 0.4 mile downstream of Burlington Northern Railroad | *471
Approximately 4,400 feet upstream of confluence of Fox River | *473
Fox River:
Approximately 500 feet upstream of confluence with the Illinois River | *472
Approximately 0.98 mile upstream of confluence of Goose Creek | *474
Maps available for inspection at the Ottawa City Hall, 301 West Madison Street, Ottawa, Illinois.
———
Peru (City), LaSalle County (FEMA Docket No. 7007)
Illinois River:
Approximately 7,350 feet downstream of State Route 251 | *462
A point approximately 2,600 feet upstream of State Route 251 | *463
Maps available for inspection at the Peru City Clerk's Office, 1727 Fourth Street, Peru, Illinois.
———
Seneca (Village), LaSalle County (FEMA Docket No. 7307)
Illinois River:
Approximately 1.1 miles downstream of South Main Street (State Route 170) | *494
Approximately 400 feet upstream of upstream county boundary | *497
Rat Run:
Approximately 2,750 feet downstream of Main Street (State Route 170) | *494
Approximately 1,000 feet downstream of Main Street (State Route 170) | *494
Maps available for inspection at the Seneca Village Hall, 116 West Williams Street, Seneca, Illinois.
———
Sheridan (Village), LaSalle County (FEMA Docket No. 7307)
Fox River:
At the most downstream corporate limits | *540
Approximately 1,725 feet upstream of North 41st Road | *545
Maps available for inspection at the Sheridan Village Hall, Engineer's Office, Robinson Street, Sheridan, Illinois.
INDIANA
Decatur County (Unincorporated Areas) (FEMA Docket No. D-7502)
Righthand Fork:
At confluence with Lake Santee | *997
Approximately 1,850 feet upstream of the confluence of Righthand Fork Tributary | *1,025
Righthand Fork Tributary:
At confluence with Righthand Fork | *1,017
Approximately 1,003 feet upstream of the confluence with Righthand Fork | *1,023
Lake Santee:
For its entire shoreline within the community | *997
Maps available for inspection at the Decatur County Area Planning Commission Office, 150 Courthouse Square, Greensburg, Indiana.
MAINE
Wilton (Town), Franklin County (FEMA Docket No. D-7506)
Butterfield Brook:
At U.S. Route 2/State Route 17 | *477
Approximately 0.64 mile upstream of Butterfield Road | *727
Cram Brook:
At confluence with Sevenmile Stream | *611
At confluence of Ice Pond Brook | *617
Ice Pond Brook:
At confluence with Cram Brook | *617
Approximately 230 feet upstream of Gordon Road | *638
Pine Brook:
At confluence with Wilson Stream | *581
Approximately 85 feet upstream of State Route 156 (Weld Road) | *592
Potash Brook:
At U.S. Route 2/State Route 17 | *488
Approximately 120 feet upstream of Cemetery Road | *515
Sevenmile Stream:
At downstream U.S. Route 2/State Route 17 crossing | *520
At upstream corporate limits | *633
Temple Brook:
At confluence with Wilson Stream | *635
Approximately 0.95 mile upstream of State Road 156 (Weld Road) | *775
Wilson Stream:
At confluence with Wilson Pond | *576
Approximately 0.7 mile upstream of Tobin Flats Road | *726
Varnum Pond:
Approximately 1,250 feet west of the intersection of Rupert Road and Walker Hill Road | *758
Maps available for inspection at the Wilton Town Hall, Code Enforcement Office, 158 Weld Road, Wilton, Maine.
NEW HAMPSHIRE
Durham (Town), Strafford County (FEMA Docket No. D-7502)
Pettee Brook:
At confluence with Beard's Creek | *8
A point approximately 20 feet upstream of Durham Reservoir Spillway | *84
College Brook:
Approximately 40 feet upstream of the confluence with Oyster River | *15
At Concord Road | *69
Oyster River:
Approximately 1,500 feet upstream of Mill Pond Dam | *15
A point approximately 15 feet upstream of State Route 155A | *68
Lamprey River:
Approximately 40 feet upstream of Wiswall Road | *63
At upstream corporate limits | *64
Hamel Brook:
At the confluence with Oyster River | *15
Approximately 1,600 feet upstream of the confluence with Oyster River | *15
Maps available for inspection at the Durham Town Hall, 15 New Market Road, Durham, New Hampshire.
NEW JERSEY
Chatham (Borough), Morris County (FEMA Docket No. D-7500)
Passaic River:
Approximately 125 feet downstream of Main Street | *180
Approximately 300 feet upstream of Stanley Avenue | *205
Maps available for inspection at the Chatham Borough Hall, 54 Fairmount Avenue, Chatham, New Jersey.
———
Chatham (Township), Morris County (FEMA Docket No. D-7500)
Passaic River:
Approximately 0.38 mile downstream of Mount Vernon Avenue | *205
Approximately 1,520 feet upstream of Snyder Avenue | *212
Maps available for inspection at the Chatham Township Hall, 58 Meyersville Road, Chatham, New Jersey.
———
Frenchtown (Borough), Hunterdon County (FEMA Docket No. D-7504)
Delaware River:
At downstream corporate limit | *124
At upstream corporate limit | *127
Nishisakawick Creek:
At confluence with Delaware River | *125
A point approximately 450 feet upstream of Kingswood Avenue (State Route 12) | *126
Little Nishisakawick Creek:
At confluence with Delaware River | *125
Approximately 760 feet upstream of State Route 29 (Trenton Avenue) | *126
Maps available for inspection at the Frenchtown Borough Hall, 29 Second Street, Frenchtown, New Jersey.
———
Phillipsburg (Town), Warren County (FEMA Docket No. D-7504)
Delaware River:
At downstream corporate limits | *183
Approximately 50 feet upstream of U.S. Route 22/Memorial Parkway | *196
Lopatcong Creek:
At confluence with Delaware River | *188
Approximately 1,600 feet upstream of CONRAIL | *188
Maps available for inspection at the Phillipsburg Town Hall, 675 Corliss Avenue, Phillipsburg, New Jersey.
NEW YORK
Champlain (Town), Clinton County (FEMA Docket No. D-7502
Great Chazy River:
Confuence with Lake Champlain | *102
Approximately 275 feet downstream from I-87 bridge | *130
Maps available for inspection at the Champlain Town Hall, 729 Rougt 9, Champlain, New York.
———
Champlain (Village), Clinton County (FEMA Docket No. D-7502)
Great Chazy River:
Approximately 3,580 feet downstream of Elm Street bridge | *103
Approximately 3,300 feet upstream of U.S. Route 9 bridge | *127
Maps available for inspection at the Champlain Village Hall, 1104 Route 9 Main Street, Champlain, New York.
———
North Elba (Town), Essex County (FEMA Docket No. D-7502)
West Branch Ausable River:
Approximately 50 feet downstream of State Route 86 | *1,644
Approximately 170 feet upstream of State Route 73 | *1,680
Chubb River, Reach 1:
At the confluence with West Branch Ausable River | *1,664
Approximately 0.76 mile upstream of confluence with West Branch Ausable | *1,668
Chubb River, Reach 2:
Approximately 20 feet downstream of CONRAIL | *1,727
Approximately 0.46 mile upstream of Old Military Road | *1,738
Maps available for inspection at the North Elba Town Clerk's Office, 301 Main Street, Lake Placid, New York.
OHIO
Brooklyn Heights (Village), Cuyahoga County (FEMA Docket No. D-7502)
Cuyahoga River:
At downstream corporate limit | *597
At upstream corporate limit | *602
Maps available for inspection at the Western Reserve Engineering Company, 5605 Valley Belt Road, Independence, Ohio.
———
Cuyahoga Heights (Village), Cuyahoga County (FEMA Docket No. D-7502)
Cuyahoga River:
Approximately 800 feet downstream side of Harvard Denison Bridge | *588
Approximately 1,700 feet upstream side of Interstate 77 | *606
Maps available for inspection at the Cuyahoga Heights Village Hall, 4863 East 71st Street, Cuyahoga Heights, Ohio.
———
Glouster (Village), Athens County (FEMA Docket No. D-7504)
Mud Fork:
Confluence with West Branch Sunday Creek | *687
Approximately 2,300 feet upstream of Oak Street | *694
Sunday Creek:
Approximately 2,960 feet downstream of Oak Street | *684
Downstream side of State Route 78 | *691
West Branch Sunday Creek:
Confluence with Sunday Creek | *687
Approximately 2,200 feet upstream of Embrey Street | *687
Maps available for inspection at the Glouster Village Hall, 16 1/2 Front Street, Glouster, Ohio.
———
Independence (City), Cuyahoga County (FEMA Docket No. D-7502)
Cuyahoga River:
At downstream corporate limits | *602
At Pleasant Valley Road | *620
Maps available for inspection at the City of Independence Building Department, 6335 Selig Drive, Independence, Ohio.
VIRGINIA
Danville (City), Pittsylvania County (FEMA Docket No. 7307)
Apple Branch:
At confluence with Dan River | *418
Approximately 25 feet upstream of Northmont Boulevard | *535
Dan River:
At downstream corporate limits | *396
Approximately 970 feet downstream of upstream corporate limits | *458
Sandy Creek:
At confluence with Dan River | *424
At downstream side of U.S. Route 58 | *424
Sandy River:
At confluence with Dan River | *427
Just downstream of old U.S. Route 58 | *427
Pumpkin Creek:
At confluence with Dan River | *401
750 feet upstream of State Route 265 | *401
Jackson Branch:
At confluence with Dan River | *403
Approximately 1,725 feet upstream of Goodyear Boulevard (Whitmell Street) | *403
Fall Creek:
At confluence with Dan River | *404
100 feet downstream of Halifax Street | *404
Maps available for inspection at the Department of Community Development, 427 Patton Street, Danville, Virginia.
———
Pittsylvania County (Unincorporated Areas) (FEMA docket No. D-7502)
Dan River:
At State boundary | *396
Approximately 3.0 miles downstream of Southern Railway | 458
Maps available for inspection at the Pittsylvania County Zoning Officer, 53 North Main Street, Chatham, Virginia.

(Catalog of Federal Domestic Assistance No. 83.100, “Flood Insurance”)
Dated: May 3, 2001.
Margaret E. Lawless,
Acting Executive Associate, Director for Mitigation.

[FR Doc. 01-12028 Filed 5-11-01; 8:45 am]

BILLING CODE 6718-04-P